DEPARTMENT OF TRANSPORTATION

Federal Aviation Administration

14 CFR Part 97

[Docket No. 30574; Amdt. No. 3239]

Standard Instrument Approach Procedures, and Takeoff Minimums and Obstacle Departure Procedures; Miscellaneous Amendments

AGENCY: Federal Aviation Administration (FAA), DOT.

ACTION: Final rule.

SUMMARY: This Rule establishes, amends, suspends, or revokes Standard Instrument Approach Procedures (SIAPs) and associated Takeoff Minimums and Obstacle Departure Procedures for operations at certain airports. These regulatory actions are needed because of the adoption of new or revised criteria, or because of changes occurring in the National Airspace System, such as the commissioning of new navigational facilities, adding new obstacles, or changing air traffic requirements. These changes are designed to provide safe and efficient use of the navigable airspace and to promote safe flight operations under instrument flight rules at the affected airports.

DATES: This rule is effective October 16, 2007. The compliance date for each SIAP, associated Takeoff Minimums, and ODP is specified in the amendatory provisions.

The incorporation by reference of certain publications listed in the regulations is approved by the Director of the Federal Register as of October 16, 2007.

ADDRESSES: Availability of matters incorporated by reference in the amendment is as follows:

For Examination—

1. FAA Rules Docket, FAA Headquarters Building, 800 Independence Avenue, SW., Washington, DC 20591;

2. The FAA Regional Office of the region in which the affected airport is located;

3. The National Flight Procedures Office, 6500 South MacArthur Blvd., Oklahoma City, OK 73169 or,

4. The National Archives and Records Administration (NARA). For information on the availability of this material at NARA, call 202-741-6030, or go to: http://www.archives.gov/federal_register/code_of_federal_regulations/ibr_locations.html.

Availability—All SIAPs and Takeoff Minimums and ODPs are available online free of charge. Visit nfdc.faa.gov to register. Additionally, individual SIAP and Takeoff Minimums and ODP copies may be obtained from:

1. FAA Public Inquiry Center (APA-200), FAA Headquarters Building, 800 Independence Avenue, SW., Washington, DC 20591; or

2. The FAA Regional Office of the region in which the affected airport is located.

FOR FURTHER INFORMATION CONTACT: Harry. J. Hodges, Flight Procedure Standards Branch (AFS-420), Flight Technologies and Programs Division, Flight Standards Service, Federal Aviation Administration, Mike Monroney Aeronautical Center, 6500 South MacArthur Blvd. Oklahoma City, OK. 73169 (Mail Address: P.O. Box 25082 Oklahoma City, OK. 73125) telephone: (405) 954-4164.

SUPPLEMENTARY INFORMATION: This rule amends Title 14 of the Code of Federal Regulations, Part 97 (14 CFR part 97), by establishing, amending, suspending, or revoking SIAPs, Takeoff Minimums and/or ODPs. The complete regulatory description of each SIAP and its associated Takeoff Minimums or ODP for an identified airport is listed on FAA form documents which are incorporated by reference in this amendment under 5 U.S.C. 552(a), 1 CFR part 51, and 14 CFR part 97.20. The applicable FAA Forms are FAA Forms 8260-3, 8260-4, 8260-5, 8260-15A, and 8260-15B when required by an entry on 8260-15A.

The large number of SIAPs, Takeoff Minimums and ODPs, in addition to their complex nature and the need for a special format make publication in the Federal Register expensive and impractical. Furthermore, airmen do not use the regulatory text of the SIAPs, Takeoff Minimums or ODPs, but instead refer to their depiction on charts printed by publishers of aeronautical materials. Thus, the advantages of incorporation by reference are realized and publication of the complete description of each SIAP, Takeoff Minimums and ODP listed on FAA forms is unnecessary. This amendment provides the affected CFR sections and specifies the types of SIAPs and the effective dates of the SIAPs, the associated Takeoff Minimums, and ODPs. This amendment also identifies the airport and its location, the procedure, and the amendment number.

The Rule

This amendment to 14 CFR part 97 is effective upon publication of each separate SIAP, Takeoff Minimums and ODP as contained in the transmittal. Some SIAP and Takeoff Minimums and textual ODP amendments may have been issued previously by the FAA in a Flight Data Center (FDC) Notice to Airmen (NOTAM) as an emergency action of immediate flight safety relating directly to published aeronautical charts. The circumstances which created the need for some SIAP and Takeoff Minimums and ODP amendments may require making them effective in less than 30 days. For the remaining SIAPs and Takeoff Minimums and ODPs, an effective date at least 30 days after publication is provided.

Further, the SIAPs and Takeoff Minimums and ODPs contained in this amendment are based on the criteria contained in the U.S. Standard for Terminal Instrument Procedures (TERPS). In developing these SIAPs and Takeoff Minimums and ODPs, the TERPS criteria were applied to the conditions existing or anticipated at the affected airports. Because of the close and immediate relationship between these SIAPs, Takeoff Minimums and ODPs, and safety in air commerce, I find that notice and public procedure before adopting these SIAPs, Takeoff Minimums and ODPs are impracticable and contrary to the public interest and, where applicable, that good cause exists for making some SIAPs effective in less than 30 days.

Conclusion

The FAA has determined that this regulation only involves an established body of technical regulations for which frequent and routine amendments are necessary to keep them operationally current. It, therefore—(1) is not a “significant regulatory action” under Executive Order 12866; (2) is not a “significant rule” under DOT Regulatory Policies and Procedures (44 FR 11034; February 26, 1979); and (3) does not warrant preparation of a regulatory evaluation as the anticipated impact is so minimal. For the same reason, the FAA certifies that this amendment will not have a significant economic impact on a substantial number of small entities under the criteria of the Regulatory Flexibility Act.

List of Subjects in 14 CFR Part 97

Air Traffic Control, Airports, Incorporation by reference, and Navigation (Air).

Issued in Washington, DC on October 5, 2007.
James J. Ballough,
Director, Flight Standards Service.

Adoption of the Amendment

Accordingly, pursuant to the authority delegated to me, under Title 14, Code of Federal Regulations, Part 97 (14 CFR part 97) is amended by establishing, amending, suspending, or revoking Standard Instrument Approach Procedures and/or Takeoff Minimums and/or Obstacle Departure Procedures effective at 0901 UTC on the dates specified, as follows:

PART 97—STANDARD INSTRUMENT APPROACH PROCEDURES

1. The authority citation for part 97 continues to read as follows:

Authority: 49 U.S.C. 106(g), 40103, 40106, 40113, 40114, 40120, 44502, 44514, 44701, 44719, 44721-44722.

2. Part 97 is amended to read as follows:

Effective 22 NOV 2007

Hyannis, MA, Barnstable Muni-Boardman/Polando Field, VOR RWY 6, Amdt 9

Atlantic City, NJ, Atlantic City International, COPTER ILS OR LOC/DME RWY 13, Amdt 1A

Franklin, PA, Venango Regional, RNAV (GPS) RWY 3, Amdt 1

Effective 20 DEC 2007

Scottsboro, AL, Scottsboro Muni-Word Field, RNAV (GPS) RWY 4, Orig

Scottsboro, AL, Scottsboro Muni-Word Field, RNAV (GPS) RWY 22, Orig

Scottsboro, AL, Scottsboro Muni-Word Field, Takeoff Minimums and Obstacle DP, Orig

New Stuyahok, AK, New Stuyahok, RNAV (GPS) RWY 14, Orig

New Stuyahok, AK, New Stuyahok, RNAV (GPS) RWY 32, Orig

New Stuyahok, AK, New Stuyahok, RNAV (GPS) RWY 34, Orig, CANCELLED

New Stuyahok, AK, New Stuyahok, RNAV (GPS) RWY 16, Orig, CANCELLED

New Stuyahok, AK, New Stuyahok, Takeoff Minimums and Obstacle DP, Amdt 1

Tanana, AK, Ralph M Calhoun Meml, VOR/DME RWY 7, Amdt 2

Tanana, AK, Ralph M Calhoun Meml, VOR-A, Amdt 7A, CANCELLED

Tanana, AK, Ralph M Calhoun Meml, Takeoff Minimums and Obstacle DP, Amdt 1

Concord, CA, Buchanan Field, Takeoff Minimums and Obstacle DP, Amdt 2

Murrieta/Temecula, CA, French Valley, RNAV (GPS) RWY 18, Amdt 1

Springfield, CO, Springfield Muni, RNAV (GPS) RWY 17, Orig

Springfield, CO, Springfield Muni, Takeoff Minimums and Textual DP, Orig

Lakeland, FL, Lakeland Linder Regional, RNAV (GPS) RWY 5, Orig

Lakeland, FL, Lakeland Linder Regional, RNAV (GPS) RWY 23, Orig

Lakeland, FL, Lakeland Linder Regional, GPS RWY 23, Orig, CANCELLED

Baxley, GA, Baxley Muni, RNAV (GPS) RWY 26, Orig

Baxley, GA, Baxley Muni, Takeoff Minimums and Obstacle DP, Orig

Cordele, GA, Crisp County-Cordele, RNAV (GPS) RWY 5, Orig

Cordele, GA, Crisp County-Cordele, RNAV (GPS) RWY 23, Orig

Cordele, GA, Crisp County-Cordele, VOR/DME RWY 23, Amdt 11

Cordele, GA, Crisp County-Cordele, NDB OR GPS RWY 10, Amdt 4B CANCELLED

Dublin, GA, W H ‘Bud’ Barron, ILS OR LOC RWY 2, Amdt 2

Dublin, GA, W H ‘Bud’ Barron, RNAV (GPS) RWY 2, Orig

Dublin, GA, W H ‘Bud’ Barron, RNAV (GPS) RWY 20, Orig

Dublin, GA, W H ‘Bud’ Barron, VOR-A, Amdt 4

Dublin, GA, W H ‘Bud’ Barron, GPS RWY 2, Orig (CANCELLED)

Dublin, GA, W H ‘Bud’ Barron, GPS RWY 20, Orig (CANCELLED)

Eastman, GA, Heart of Georgia Regional, ILS OR LOC RWY 2, Amdt 1

Eastman, GA, Heart of Georgia Regional, RNAV (GPS) RWY 2, Amdt 1

Eastman, GA, Heart of Georgia Regional, RNAV (GPS) RWY 20, Amdt 1

Eastman, GA, Heart of Georgia Regional, NDB RWY 2, Amdt 2

Eastman, GA, Heart of Georgia Regional, VOR/DME-A, Amdt 8

Macon, GA, Macon Downtown, RNAV (GPS) RWY 10, Orig

Macon, GA, Macon Downtown, RNAV (GPS) RWY 28, Orig

Macon, GA, Macon Downtown, LOC RWY 10, Amdt 6

Macon, GA, Macon Downtown, VOR/DME-B, Amdt 3

Macon, GA, Macon Downtown, VOR-A, Amdt 6

McRae, GA, Telfair-Wheeler, RNAV (GPS) RWY 21, Orig

McRae, GA, Telfair-Wheeler, NDB RWY 21, Amdt 9

McRae, GA, Telfair-Wheeler, Takeoff Minimums and Obstacle DP, Orig

Milledgeville, GA, Baldwin County, RNAV (GPS) RWY 10, Orig

Milledgeville, GA, Baldwin County, RNAV (GPS) RWY 28, Orig

Milledgeville, GA, Baldwin County, NDB RWY 28, Amdt 2

Milledgeville, GA, Baldwin County, GPS RWY 10, Orig-B, CANCELLED

Milledgeville, GA, Baldwin County, GPS RWY 28, Orig-B, CANCELLED

Perry, GA, Perry-Houston County, Takeoff Minimums and Obstacle DP, Orig

Swainsboro, GA, Emanuel County, RNAV (GPS) RWY 13, Orig

Swainsboro, GA, Emanuel County, RNAV (GPS) RWY 31, Orig

Swainsboro, GA, Emanuel County, LOC/NDB RWY 13, Amdt 1

Swainsboro, GA, Emanuel County, NDB RWY 13, Amdt 1

Swainsboro, GA, Emanuel County, VOR/DME-A, Amdt 3

Swainsboro, GA, Emanuel County, Takeoff Minimums and Obstacle DP, Amdt 1

Paris, IL, Edgar County, RNAV (GPS) RWY 9, Orig

Paris, IL, Edgar County, RNAV (GPS) RWY 27, Orig

Paris, IL, Edgar County, NDB RWY 27, Amdt 10

Paris, IL, Edgar County, Takeoff Minimums and Obstacle DP, Orig

Hartford, KY, Ohio County, Takeoff Minimums and Obstacle DP, Orig

Detroit, MI, Coleman A. Young Muni, Takeoff Minimums and Obstacle DP, Amdt 6

South St Paul, MN, South St Paul Muni-Richard E Fleming Field, LOC RWY 34, Amdt 1

South St Paul, MN, South St Paul Muni-Richard E Fleming Field, Takeoff Minimums and Obstacle DP, Orig

St Louis, MO, Lambert-St Louis Intl, VOR RWY 6, Orig-A, CANCELLED

St Louis, MO, Lambert-St Louis Intl, VOR RWY 24, Orig-A, CANCELLED

Columbia, MS, Columbia-Marion County, Takeoff Minimums and Obstacle DP, Orig

Princeton/Rocky Hill, NJ, Princeton, VOR/DME RNAV OR GPS RWY 10, Amdt 3, CANCELLED

Casselton, ND, Casselton Robert Miller Rgnl, RNAV (GPS) RWY 13, Orig

Casselton, ND, Casselton Robert Miller Rgnl, RNAV (GPS) RWY 31, Orig

Casselton, ND, Casselton Robert Miller Rgnl, VOR/DME RWY 31, Amdt 1

Casselton, ND, Casselton Robert Miller Rgnl, Takeoff Minimums and Obstacle DP, Orig

Washington Court House, OH, Fayette County, RNAV (GPS) RWY 23, Orig

Washington Court House, OH, Fayette County, NDB RWY 23, Amdt 5

Washington Court House, OH, Fayette County, GPS RWY 23, Orig-A, CANCELLED

Washington Court House, OH, Fayette County, Takeoff Minimums and Obstacle DP, Amdt 2

Oklahoma City, OK, Wiley Post, Takeoff Minimums and Obstacle DP, Amdt 4

Pendleton, OR, Eastern Oregon Regional at Pendleton, ILS OR LOC/DME RWY 25, Amdt 24

Allentown, PA, Allentown/Queen City Muni, RNAV (GPS) RWY 7, Orig

Allentown, PA, Allentown/Queen City Muni, VOR-B, Amdt 7

Allentown, PA, Allentown/Queen City Muni, GPS RWY 7, Orig, CANCELLED

Collegeville, PA, Perkiomen Valley, Takeoff Minimums and Obstacle DP, Orig

Barnwell, SC, Barnwell Rgnl, RNAV (GPS) RWY 35, Orig

Union City, TN, Everett-Stewart, VOR/DME-A, Amdt 8

Culpeper, VA, Culpeper Regional, Takeoff Minimums and Obstacle DP, Orig

New Richmond, WI, New Richmond Regional, RNAV (GPS) RWY 14, Amdt 1

New Richmond, WI, New Richmond Regional, RNAV (GPS) RWY 32, Amdt 1

New Richmond, WI, New Richmond Regional, NDB RWY 14, Amdt 3

New Richmond, WI, New Richmond Regional, Takeoff Minimums and Obstacle DP, Orig

Prairie Du Sac, WI, Sauk-Prairie, RNAV (GPS) RWY 18, Orig

Prairie Du Sac, WI, Sauk-Prairie, RNAV (GPS) RWY 36, Orig

Prairie Du Sac, WI, Sauk-Prairie, Takeoff Minimums and Obstacle DP, Orig

Charleston, WV, Yeager, RADAR-1, Amdt 12A, CANCELLED

Hulett, WY, Hulett Muni, RNAV (GPS)-A, Orig

Hulett, WY, Hulett Muni, Takeoff Minimums and Obstacle DP, Orig

Jackson, WY, Jackson Hole, ILS OR LOC Z RWY 19, Orig

Effective 14 FEB 2008

San Francisco, CA, San Francisco Intl, RNAV (GPS) X RWY 10R, Orig-B

Clinton, MD, Washington Executive/Hyde Field, Takeoff Minimums and Obstacle DP, Orig

[FR Doc. E7-20212 Filed 10-15-07; 8:45 am]

BILLING CODE 4910-13-P